DEPARTMENT OF AGRICULTURE

Food and Nutrition Service

Agency Information Collection Activities: Summer Food Site Locations for State Agencies

AGENCY: Food and Nutrition Service (FNS), USDA.

ACTION: Notice.

SUMMARY: In accordance with the Paperwork Reduction Act of 1995, this notice invites the general public and other public agencies to comment on this proposed information collection. This collection is a revision of a currently approved collection for the mandatory collection of summer meal site information from State agencies.

DATES: Written comments must be received on or before August 28, 2025.

ADDRESSES: Comments may be sent to: Edward Harper, Program Integrity and Innovation Division, Food and Nutrition Service, U.S. Department of Agriculture, 1320 Braddock Place, Alexandria, VA 22314. Comments will also be accepted through the Federal eRulemaking Portal. Go to http://www.regulations.gov, and follow the online instructions for submitting comments electronically. All responses to this notice will be summarized and included in the request for Office of Management and Budget approval. All comments will be a matter of public record.

FOR FURTHER INFORMATION CONTACT: Requests for additional information or copies of this information collection should be directed to Edward Harper at 703-305-2340.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Summer Food Site Locations for State Agencies.

Form Number: FNS-905.

OMB Number: 0584-0649.

Expiration Date: December 31, 2025.

Type of Request: Revision of a currently approved collection.

Abstract: The FNS-905 form: Summer Food Site Locations for State Agencies is the instrument used to collect information from State agencies about approved summer meal sites for the Summer Food Service Program (SFSP) and the Seamless Summer Option (SSO) of the National School Lunch Program. The form collects site name, location, and operating details such as dates and times of the day that the sites are in operation, for sites that provide summer meals to children 18 years and younger in low-income areas during summer months. The FNS-905 form is completed by State agencies.

The FNS-905 form is among the requirements found in statute in Section 26 of the National School Lunch Act (NSLA) (42 U.S.C. 1769g), which mandates that FNS enter into a contract with a nongovernmental organization to develop and maintain a national information clearinghouse for grassroots organizations working on hunger, food, nutrition, and other agricultural issues, including food recovery, food assistance and self-help activities to aid individuals to become self-reliant, and other activities that empower low-income individuals. The FNS-905 form is specific to summer meal site data and populates the National Hunger Clearinghouse database with summer meals site information and locations. The USDA National Hunger Clearinghouse is a resource for the public to find information about the food safety net. Information collection activities associated with the USDA National Hunger Clearinghouse and its associated FNS-543 form, National Hunger Clearinghouse Database Form, are covered under OMB Control Number 0584-0474, which is approved through May 31, 2028. Submission of the FNS-905 is a regulatory requirement per 7 CFR 225.8(e) which states that “by June 30 . . . the State agency must submit to FNS a list of open site locations and their operational details and provide a minimum of two updates during the summer operational period.” The information from this form is used to populate the Summer Meals for Kids Site Finder map at https://www.fns.usda.gov/summer/sitefinder.

FNS provides information about approved meal sites for individuals to find meals for children 18 years and younger when school is out for the summer, and for groups that assist low-income individuals or communities to find meals for children. This information is a way to connect families to summer meals and assist communities in developing, coordinating, and evaluating strategic initiatives, partnerships, and outreach activities.

In December 2022, Congress passed the Consolidated Appropriations Act, 2023 (Pub. L. 117-328), authorizing a new, non-congregate meal service option in rural areas where no congregate meal service is available. Beginning in summer 2025, the Act also makes it mandatory for states to report summer site data once by June 30 and update that data at least twice each year, for a minimum total of three annual submissions. However, FNS expects State agencies to continue to submit the form approximately 11 times a year. The currently approved burden for this collection is 73 burden hours and 583 responses. The estimated number of respondents increases from 53 respondents to 54 to account for full State agency compliance of this requirement. Due to 54 State agencies now complying with this requirement, the total annual responses will increase from 583 to 594. In addition, FNS is increasing the estimated time to complete the requirement from 7.5 minutes (.125 hours) to 8 minutes (.1336 hours) to more accurately reflect the time that it takes to complete the template. These changes increase the burden hours from 73 hours to 79 hours due to the adjustment.

Affected Public: State, Local and Tribal Government: Respondent groups identified include State agencies administering the SFSP.

Estimated Number of Respondents: The total estimated number of respondents is 54. This includes the 50 States, the District of Columbia, the Virgin Islands, Guam, and Puerto Rico (the State agencies that administer SFSP).

Estimated Number of Responses per Respondent: 11. The FNS-905 form is required to be used starting in summer 2025 and State agencies are required to report data at least three times during the summer operational period. States agencies are encouraged to submit weekly updates if there are any changes.

Estimated Total Annual Responses: 594.

Estimated Time per Response: The estimated time of completion is approximately 8 minutes (0.1336 hours) for each response.

Estimated Total Annual Burden on Respondents: 79 hours. See the table below for estimated total annual burden for the State agencies.

Regulation | Burden activity | Estimated number of respondents | Estimated responses per respondent | Estimated total annual responses | Estimated hours per response | Estimated total annual hours | Previously approved under 0584-0649 | Difference due to program changes | Difference due to adjustment
Reporting State Agency
225.8(e) | SA Submits FNS-905 Form to FNS | 54 | 11 | 594 | 0.1336 | 79.3584 | 73 |  | 6.3584
Grand Total |  | 54 | 11 | 594 | 0.1336 | 79.36 | 73 | 0 | 6.36

James C. Miller,
Administrator, Food and Nutrition Service.

[FR Doc. 2025-14288 Filed 7-28-25; 8:45 am]

BILLING CODE 3410-30-P